FEDERAL COMMUNICATIONS COMMISSION

[DA 00-1950]

Reminder of September 1, 2000, Deadline for Compliance With Regulations for Human Exposure to Radiofrequency Emissions

AGENCY: Federal Communications Commission.

ACTION: Notice.

SUMMARY: On September 1, 2000, all existing transmitting facilities, operations and devices regulated by the Commission must be in compliance with the Commission's radiofrequency (RF) exposure guidelines, pursuant to the Commission's rules, or if not in compliance, file an Environmental Assessment (EA).

FOR FURTHER INFORMATION CONTACT: Robert Cleveland, Office of Engineering and Technology, (202) 418-2422 .

SUPPLEMENTARY INFORMATION: This is a summary of the text of the Public Notice, DA 00-1950, released August 24, 2000. The document is available for inspection and copying during normal business hours in the FCC Reference Information Center, Room CY-A257, 445 12th Street, SW., Washington, DC, and also may be purchased from the Commission's duplication contractor, International Transcription Service, (202) 857-3800, 1231 20th Street, NW., Washington, DC 20036.

Summary of the Public Notice

1. This is the third in a series of Public Notices reminding licensees and grantees of the September 1, 2000, RF compliance requirement. For more information, see Public Notice, “Year 2000 Deadline for Compliance with Commission's Regulations Regarding Human Exposure to Radiofrequency Emissions,” originally released February 25, 2000; re-released as Public Notice, DA 00-912, April 27, 2000.

2. After September 1, 2000, if any facility, operation or device is found not to be in compliance with the Commission's RF exposure guidelines, and if the required EA has not been filed, the Commission will consider this to be a violation of its rules, resulting in possible fines, forfeiture or other actions deemed appropriate by the Commission. Random spot checks for compliance with the Commission's RF exposure guidelines will be conducted.

3. Consumers should be aware that hand-held cellular and PCS telephones that were authorized by the FCC after August 1, 1996, have been evaluated for compliance with FCC guidelines. Furthermore, PCS devices subject to equipment authorization have been required to comply with the RF guidelines since 1994. This means that a large number, if not the majority, of cellular and PCS telephones now in use in the United States have already been evaluated for compliance with the FCC's RF exposure limits. To the extent that a wireless device received an FCC authorization prior to the August 1, 1996, effective date, and is still being produced and marketed, manufacturers of such devices will be required to file EAs if the device in question is not in compliance with the FCC's RF guidelines.

4. Further information on the Commission's RF exposure quidelines and on evaluating compliance with the RF guidelines may be found at the Commission's RF Safety Web page: www.fcc.gov/oet/rfsafety. In particular, the Office of Engineering and Technology's Bulletin 65 and supplements to this bulletin (all available at the Web Site for viewing and downloading) offer detailed guidance on evaluating compliance. Requests for information or copies of these documents can also be directed to the FCC's RF Safety Program in the Office of Engineering and Technology, (202) 418-2464 or by e-mail to: rfsafety@fcc.gov.

5. For information on specific filing procedures for EAs, licensees and grantees should consult the following web sites or contact the appropriate FCC office or bureau:

• Wireless Telecommunications Bureau: www.fcc.gov/wtb; Irene Griffith: (202) 418-1315.

• Mass Media Bureau: www.fcc.gov/mmb; FM (Brian Butler): (202) 418-2700; AM (Joseph Szczesny): (202) 418-2700; TV (John Morgan): (202) 418-1600.

• International Bureau: www.fcc.gov/ib; (202) 418-2222.

• Office of Engineering and Technology: www.fcc.gov/oet/rfsafety; (202) 418-2464.

Federal Communications Commission.
William F. Canton,
Deputy Secretary.

[FR Doc. 00-22242 Filed 8-30-00; 8:45 am]

BILLING CODE 6712-01-U